DEPARTMENT OF LABOR

Employment and Training Administration

[TA-W-65,878]

BCF Industries, Altavista, VA; Notice of Termination of Investigation

Pursuant to Section 221 of the Trade Act of 1974, as amended, an investigation was initiated on May 4, 2009, in response to a petition filed on behalf of workers of BCF Industries, Altavista, Virginia.

The petitioners have requested that the petition be withdrawn. Consequently, the investigation has been terminated.

Signed at Washington, DC, this 19th day of May, 2009.
Elliott S. Kushner,
Certifying Officer, Division of Trade Adjustment Assistance.

[FR Doc. E9-13917 Filed 6-12-09; 8:45 am]

BILLING CODE 4510-FN-P